DEPARTMENT OF TRANSPORTATION

Pipeline and Hazardous Materials Safety Administration

Office of Hazardous Materials Safety; Notice of Application for Special Permits.

AGENCY: Pipeline and Hazardous Materials Safety Administration (PHMSA), DOT.

ACTION: List of Applications for Special Permits.

SUMMARY: In accordance with the procedures governing the application for and the processing of special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 30, 2014.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(6); 49 CFR 1.53(b)).

Issued in Washington, DC, on May 13, 2014.
Donald Burger,
Chief, General Approvals and Permits.

Application No. | Docket No. | Applicant | Regulation(s) affected | Name of special permit thereof | Special thereof
NEW SPECIAL PERMITS
16131-N |  | Pacific Scientific PSEMC, Hollister, CA | 49 CFR 171.8 | To authorize the transportation in commerce of UNO367 Fuzes, detonating in UN4G packaging with a capacity greater than 450 liters. (modes 1, 2, 3, 4).
16137-N |  | Diversified Laboratory Repair, Gaithersburg, MD | 49 CFR, 49 CFR 173.196 | To authorize the transportation in commerce of certain infectious substances in special packagings (freezers). (mode 1).
16142-N |  | Nantong CIMC Tank and Equipment Co. Ltd., Jiangsu, Province | 49 CFR, 178.274(b), 178.276(b)(1) | To authorize the manufacture, marking, sale and use of UN T75 Code Portable tanks that are designed, constructed, certified and stamped in accordance with Section VIII Division 1, latest edition of the ASME Code. (modes 1, 2, 3).
16144-N |  | Stage FX, Inc., Columbus, MT | 49 CFR, 173.56(b) and 172.320 | To authorize the transportation in commerce of certain Class 1 materials without EX classification for approximately 15 Miles by motor vehicle. (mode 1).
16145-N |  | Bering Air, Inc. Nome, AK | 49 CFR, 49 CFR 172.101 Column (8C), 173.241, 173.242, 175.310 | To authorize the transportation in commerce of certain flammable and combustible liquids in alternative packaging having a capacity of 119 gallons or more by air. (modes 1, 4).
16146-N |  | U.S. Department of Defense (DOD) Scott AFB, IL | 49 CFR 171.22(e), 172.101 Hazardous Materials Table Column (9B), International Civil Aviation Organization's Technical Instructions Part 3, Chapter 2, Table 3-1 Columns 12 and 13 | To authorize the transportation in commerce of certain Division 1.1, 1.2 and 1.3 explosives that are forbidden for transportation by cargo aircraft. (mode 4).
16149-N |  | Reclamation Technologies, Inc. dba, A-Gas Remtec Bowling Green, OH | 49 CFR 171.23(a)(4) and 173.304a | To authorize the transportation in and commerce of certain non-DOT specification cylinders containing refrigerant gas for recovery and disposal. (modes 1, 3).
16154-N |  | Patriot Fireworks, LLC Ann Arbor, MI | 49 CFR 172.101 Column (8C) and 173.62 | To authorize the transportation in commerce of certain consumer fireworks in a bulk packaging consisting of an ISO-standard freight container in which authorized explosives are packed on wooden or metal shelving systems which are waived from marking and labeling. (mode 1).
16155-N |  | B.J. Alan Company dba Phantom Fireworks Canfield, OH | 49 CFR 172.101 Column (8C) and 173.62 | To authorize the transportation in commerce of certain fireworks in UN certified large packagings. (mode 1).

[FR Doc. 2014-12437 Filed 5-29-14; 8:45 am]

BILLING CODE 4909-60-M